COMMITTEE FOR PURCHASE FROM PEOPLE WHO ARE BLIND OR SEVERELY DISABLED

Procurement List; Proposed Additions

AGENCY: Committee for Purchase From People Who Are Blind or Severely Disabled.

ACTION: Proposed Additions to Procurement List.

SUMMARY: The Committee is proposing to add to the Procurement List products and services to be furnished by nonprofit agencies employing persons who are blind or have other severe disabilities.

Comments Must be Received on or Before: November 9, 2008.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product and service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product(s) and/or service(s) to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

United States Coast Guard Flags

NSN: 8345-00-242-0272

NSN: 8345-01-087-4594

NSN: 8345-01-087-4595

NSN: 8345-01-168-1146

NPA: Goodwill Industries of South Florida, Inc., Miami, FL

Contracting Activity: U.S. COAST GUARD, ELC

Coverage: C-list for the requirement of the U.S. Coast Guard

Laminated Wiper, Biodegradable

NSN: 7920-00-NIB-0439

NPA: East Texas Lighthouse for the Blind, Tyler, TX

Contracting Activity: FEDERAL ACQUISITION SERVICE, GSA/FAS SOUTHWEST SUPPLY CENTER (QSDAC)

Coverage: B-list for the broad government requirement as aggregated by the General Services Administration.

Bag, Sand, Polypropylene, 26″ x 14″, Green

NSN: 8105-00-142-9345.

NPA: Southeast Vocational Alliance, Inc., Houston, TX.

Contracting Activity: DEFENSE LOGISTICS AGENCY, DEFENSE SUPPLY CENTER PHILADELPHIA.

Coverage: C-list for the remaining 50% of the Defense Supply Center Philadelphia requirement.

Services

Service Type/Location: Base Supply Center, NAWS China Lake, 1 Administration Circle, China Lake, CA.

NPA: The Lighthouse for the Blind, Inc. (Seattle Lighthouse), Seattle, WA

Contracting Activity: DEPT OF THE NAVY, FISC SAN DIEGO.

Service Type/Location: Custodial Services, Depot Maintenance Activity Group, Robins AFB, GA.

NPA: Good Vocations, Inc., Macon, GA.

Contracting Activity: DEPT OF THE AIR FORCE, FA8501 WR ALC PKO.

Service Type/Location: Laundry Services, FEMA—NETC, 16825 South Seton Avenue, Emmitsburg, MD.

NPA: Jeanne Bussard Center, Inc., Frederick, MD.

Contracting Activity: FEDERAL EMERGENCY MANAGEMENT AGENCY, NETC ACQUISITION SECTION.

Barry S. Lineback,
Acting Director, Program Operations.

[FR Doc. E8-24148 Filed 10-9-08; 8:45 am]

BILLING CODE 6353-01-P